NATIONAL SCIENCE FOUNDATION

Notice of Permit Applications Received Under the Antarctic Conservation Act of 1978

AGENCY: National Science Foundation

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by January 17, 2017. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2017-038

1. Applicant: Robert B Dunbar, Keck Professor of Earth Sciences, Earth Systems Science, Stanford University, Stanford, CA 94305-2115.

Activity for Which Permit Is Requested

Waste Management. The applicant proposes to conduct waste management activities associated with the operation of an unmanned aircraft system (UAS) in the Antarctic Peninsula region. The applicant is seeking this waste management permit in the unlikely even that the aircraft is lost and deemed unrecoverable during the conduct of the science missions. The applicant proposes to conduct a small number of aerial camera missions with a small UAS/quadcopter (DJI Phantom 4) to collect imagery along the fronts of floating ice tongues and tidewater glaciers. The pilot/operator has experience conducting similar UAS operations in cold and polar regions. Strict maintenance protocols will be adhered to and flight planning/mission will take place. The UAS will be launched from small inflatable watercraft, e.g. Zodiacs, either from the “floor” of the craft or using a handheld take-off method. Flights will last a maximum of 28 minutes and will be planned to maintain a 25% battery reserve upon landing. Flights will not be conducted over or near Antarctic Specially Protected Areas or Historic Sites and Monuments. If flights are planned for areas in the vicinity of scientific stations, the applicant will seek permission from station managers. There will be no flights over or near wildlife colonies, marine mammals at sea, or concentrations of flying birds. Biosecurity measures will be followed. The activities will be conducted during a cruise with Zegrahm Expeditions.

Location

Antarctic Peninsula region

Dates

January 15-30, 2017

Nadene G. Kennedy,
Polar Coordination Specialist, Division of Polar Programs.

[FR Doc. 2016-30112 Filed 12-14-16; 8:45 am]

BILLING CODE 7555-01-P